DEPARTMENT OF ENERGY

Electricity Advisory Committee

AGENCY: Department of Energy, Office of Electricity.

ACTION: Notice of open meeting.

SUMMARY: This notice announces a meeting of the Electricity Advisory Committee (EAC). The Federal Advisory Committee Act (FACA) requires that public notice of these meetings be announced in the Federal Register.

DATES: Wednesday, June 5, 2024; 1 p.m.-5:35 p.m. EDT; Thursday, June 6, 2024; 8:30 a.m.-12:30 p.m. EDT.

ADDRESSES: The National Rural Electric Cooperative Association Conference Center, 4301 Wilson Blvd., Arlington, VA 22203. Members of the public are encouraged to participate virtually, however, limited physical space is available for members of the public to attend onsite. To register to attend either in-person or virtually, please visit the meeting website: https://www.energy.gov/oe/electricity-advisory-committee-june-2024-meeting. Please note, you must register for each day you would like to attend.

FOR FURTHER INFORMATION CONTACT: Ms. Jayne Faith, Designated Federal Officer, Office of Electricity, U.S. Department of Energy, Washington, DC 20585; Telephone: (202) 586-2983 or Email: Jayne.Faith@hq.doe.gov.

SUPPLEMENTARY INFORMATION:

Purpose of the Committee: The EAC was established in accordance with the provisions of FACA, as amended, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

June 5, 2024

12:45 p.m.-1:00 p.m. WebEx Attendee Sign-On

1:00 p.m.-1:15 p.m. Welcome, Introductions, Developments since February Meeting

1:15 p.m.-1:30 p.m. Introductory Remarks from the Office of Electricity

1:30 p.m.-3:30 p.m. Discussion on Secure Data Portal

3:30 p.m.-3:45 p.m. Break

3:45 p.m.-4:30 p.m. Presentation on the 2024 Solar Eclipse

4:30 p.m.-5:00 p.m. EAC Discussion on the Institute of Electrical and Electronics Engineers Standards

5:00 p.m.-5:30 p.m. EAC Presentation and Vote on Gas-Electric Recommendations

5:30 p.m.-5:35 p.m. Wrap-up and Adjourn Day 1 of the June 2024 EAC Meeting

June 6, 2024

8:00 a.m.-8:30 a.m. WebEx Attendee Sign-On

8:30 a.m.-8:45 a.m. Opening Remarks

8:45 a.m.-9:45 a.m. Discussion on Secure Communications

9:45 a.m.-10:00 a.m. Break

10:00 a.m.-11:00 a.m. Discussion on Energy Storage

11:00 a.m.-11:30 a.m. DOE's Clean Energy Workforce Development Efforts

11:30 a.m.-11:40 a.m. Energy Storage Subcommittee Update

11:40 a.m.-11:50 a.m. Smart Grid Subcommittee Update

11:50 a.m.-12:00 p.m. Grid Resilience for National Security Subcommittee Update

12:00 p.m.-12:15 p.m. Public Comments

12:15 p.m.-12:30 p.m. Wrap-up and Adjourn June 2024 Meeting of the EAC

The meeting agenda and times may change to accommodate EAC business. For EAC agenda updates, see the EAC website at: https://www.energy.gov/oe/electricity-advisory-committee-june-2024-meeting.

Public Participation: The EAC welcomes the attendance of the public at its meetings. Individuals who wish to offer public comments at the EAC meeting may do so on June 6, 2024, but must register in advance by 9 a.m. EDT on June 6, 2024, by sending a written request identified by “Electricity Advisory Committee June 2024 Meeting,” to Ms. Jayne Faith at Jayne.Faith@hq.doe.gov. Approximately 15 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee June 2024 Meeting,” to Ms. Jayne Faith at Jayne.Faith@hq.doe.gov.

Minutes: Minutes will be posted on the EAC web page at https://www.energy.gov/oe/electricity-advisory-committee-june-2024-meeting. They can also be obtained by contacting Ms. Jayne Faith at the email address or telephone number listed in FOR FURTHER INFORMATION CONTACT section.

Signing Authority: This document of the Department of Energy was signed on May 1, 2024, by Alyssa Petit, Acting Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 1, 2024.
Treena V. Garrett,
Federal Register Liaison Officer, U.S. Department of Energy.

[FR Doc. 2024-09858 Filed 5-6-24; 8:45 am]

BILLING CODE 6450-01-P